DEPARTMENT OF COMMERCE

National Oceanic and Atmospheric Administration

[RTID 0648-XD299]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day in-person meeting of its Standing, Reef Fish, Socioeconomic, and Ecosystem Scientific and Statistical Committees (SSC).

DATES: The meeting will be held Wednesday, September 27 and Thursday, September 28, 2023; 8:30 a.m.-5 p.m., EDT both days.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, September 27, 2023; 8:30 a.m.-5 p.m., EDT

The meeting will begin with Introductions and Adoption of Agenda, Approval of Verbatim Minutes and Meeting Summary from the July 19-20, 2023, meeting, and a review of the Scope of Work. The Committees will select an SSC Representative for the October 23-26, 2023, Gulf Council meeting in Panama City Beach, FL.

Following, the Committees will review Gag Grouper Abundance, Movement, Spawning Behavior, Discard Mortality, and Environment Influences; presentations, background documentation and references will be provided to support SSC discussion. The Committees will review Possible Management Modifications for Gag and Black Grouper, with presentations, background documentation and references for SSC recommendations and discussion. The Committees will also discuss the SEDAR 94 Florida Hogfish Scope of Work. Public comment will be heard at the end of the day.

Thursday, September 28, 2023; 8:30 a.m.-5 p.m., EDT

The Committees will review and discuss the Gulf of Mexico Gag Health Check, Vermilion Snapper Interim Analysis, Southeast Region Best Scientific Information Available Framework, Incorporating Social Science Theory and Methods into Ecosystem Assessments, and the Lane Snapper Updated Catch Analysis, including presentations and background materials for SSC discussions.

The Committees will receive public comment, if any, before addressing any items under Other Business.

—Meeting Adjourns

The meeting will also be broadcast via webinar. You may register for the webinar by visiting www.gulfcouncil.org and clicking on the SSC meeting on the calendar.

The agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: September 6, 2023.
Rey Israel Marquez,
Acting Deputy Director, Office of Sustainable Fisheries, National Marine Fisheries Service.

[FR Doc. 2023-19512 Filed 9-8-23; 8:45 am]

BILLING CODE 3510-22-P